DEPARTMENT OF VETERANS AFFAIRS

[OMB Control No. 2900-0899]

Agency Information Collection Activity: Readjustment Counseling Service Scholarship Program (RCSSP)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before April 6, 2026.

ADDRESSES: Comments must be submitted through www.regulations.gov.

FOR FURTHER INFORMATION CONTACT:

Program-Specific information: Rebecca Mimnall, 202-695-9434, vhacopra@va.gov.

VA PRA information: Dorothy Glasgow, 202-461-1084, VAPRA@va.gov.

SUPPLEMENTARY INFORMATION:

Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Readjustment Counseling Service Scholarship Program (RCSSP).

OMB Control Number: 2900-0899. https://www.reginfo.gov/public/do/PRASearch (Once at this link, you can enter the OMB Control Number to find the historical versions of this Information Collection).

Type of Review: Revision of a currently approved collection.

Abstract: Authorization for this information collection is found in section 502 of Public Law 115-171, the Commander John Scott Hannon Veterans Mental Health Care Improvement Act of 2019, which amended Chapter 76 of title 38 United States Code (U.S.C.) by establishing sections 7698 through 7699B and creating a scholarship program known as the Readjustment Counseling Service Scholarship Program (RCSSP). This legislation authorized the VA Readjustment Counseling Service (RCS) to provide scholarship awards to individual Veterans enrolled in accredited academic programs leading to an appointment in one of the selected health professional occupations. Specifically, the RCSSP provides educational assistance to individuals who pursue a graduate degree in psychology, social work, marriage and family therapy, or mental health counseling that would meet the education requirements for appointment as a health care professional in one of those fields in VA Vet Centers.

The information collected is used to determine the eligibility or suitability of an applicant desiring to receive a scholarship award under the provisions of the RCSSP. Following selection, additional information is collected from awardees pursuant to program requirements. The applicant forms in this collection are 10-264, 10-264A, 10-264E, and 10-264G. The awardee forms are 10-264D, 10-264F, 10-264H, 10-264I, 10-264J, 10-264K, and 10-264M.

Affected Public: Individuals or Households.

Estimated Annual Burden: Total hours = 181 hours.

Applicants:

10-264 = 54 hours.

10-264A = 9 hours.

10-264E = 45 hours.

10-264G = 54 hours.

Awardees:

10-264D = 4 hours.

10-264F = 3 hours.

10-264H = 2 hours.

10-264I = 4 hours.

10-264J = 2 hours.

10-264K = 2 hours.

10-264M = 2 hours.

Estimated Average Burden Per Respondent:

Applicants:

10-264 = 60 minutes.

10-264A = 10 minutes.

10-264E = 50 minutes.

10-264G = 60 minutes.

Awardees:

10-264D = 20 minutes.

10-264F = 15 minutes.

10-264H = 10 minutes.

10-264I = 20 minutes.

10-264J = 10 minutes.

10-264K = 10 minutes.

10-264M = 10 minutes.

Frequency of Response: Once annually.

Estimated Number of Responses: Total Responses = 66.

Applicants:

10-264 = 54.

10-264A = 54.

10-264E = 54.

10-264G = 54.

Awardees:

10-264D = 12.

10-264F = 12.

10-264H = 12.

10-264I = 12.

10-264J = 12.

10-264K = 12.

10-264M = 12.

Authority: 44 U.S.C. 3501 et seq.

Shunda Willis,
Acting, VA PRA Clearance Officer, (Alt.), Office of Information Technology, Data Governance Analytics, Department of Veterans Affairs.

[FR Doc. 2026-02208 Filed 2-3-26; 8:45 am]

BILLING CODE 8320-01-P